DEPARTMENT OF HOMELAND SECURITY

U.S. Customs and Border Protection

Extension of the Air Cargo Advance Screening (ACAS) Pilot Program and Reopening of Application Period for Participation

AGENCY: U.S. Customs and Border Protection, DHS.

ACTION: General notice.

SUMMARY: On October 24, 2012, U.S. Customs and Border Protection (CBP) published a notice in the Federal Register that announced the formalization and expansion of the Air Cargo Advance Screening (ACAS) pilot program that would run for six months. On April 23, 2013, CBP published a notice in the Federal Register extending the pilot period for another six months. On October 23, 2013, CBP published a notice in the Federal Register extending the pilot period for an additional nine months. This document announces that CBP is extending the pilot period for an additional year and reopening the application period for new participants for 60 days. The ACAS pilot is a voluntary test in which participants submit a subset of required advance air cargo data to CBP at the earliest point practicable prior to loading of the cargo onto the aircraft destined to or transiting through the United States.

DATES: CBP is extending the ACAS pilot program through July 26, 2015, and reopening the application period to accept applications for new ACAS pilot participants through September 26, 2014. Comments concerning any aspect of the announced test may be submitted at any time during the test period.

ADDRESSES: Applications to participate in the ACAS pilot must be submitted via email to CBPCCS@cbp.dhs.gov. In the subject line of the email, please use “ACAS Pilot Application”. Written comments concerning program, policy, and technical issues may also be submitted via email to CBPCCS@cbp.dhs.gov. In the subject line of the email, please use “Comment on ACAS pilot”.

FOR FURTHER INFORMATION CONTACT: Regina Kang, Cargo and Conveyance Security, Office of Field Operations, U.S. Customs & Border Protection, via email at regina.kang@dhs.gov.

SUPPLEMENTARY INFORMATION:

Background

On October 24, 2012, CBP published a general notice in the Federal Register (77 FR 65006, corrected in 77 FR 65395 ¹) announcing that CBP is formalizing and expanding the ACAS pilot to include other eligible participants in the air cargo environment. The notice provides a description of the ACAS pilot, sets forth eligibility requirements for participation, and invites public comments on any aspect of the test. In brief, the ACAS pilot revises the time frame for pilot participants to transmit a subset of mandatory advance electronic information for air cargo. CBP regulations implementing the Trade Act of 2002 specify the required data elements and the time frame for submitting them to CBP. Pursuant to title 19, Code of Federal Regulations (19 CFR) 122.48a, the required advance information for air cargo must be submitted no later than the time of departure of the aircraft for the United States (from specified locations) or four hours prior to arrival in the United States for all other locations.

¹ This Federal Register notice, published on October 26, 2012, corrected the email address under the ADDRESSES heading for submitting applications or comments. The correct email address is CBPCCS@cbp.dhs.gov.

The ACAS pilot is a voluntary test in which participants agree to submit a subset of the required 19 CFR 122.48a data elements (ACAS data) at the earliest point practicable prior to loading of the cargo onto the aircraft destined to or transiting through the United States. The ACAS data is used to target high-risk air cargo. CBP is considering possible amendments to the regulations regarding advance information for air cargo. The results of the ACAS pilot will help determine the relevant data elements, the time frame within which data must be submitted to permit CBP to effectively target, identify and mitigate any risk with the least impact practicable on trade operations, and any other related procedures and policies.

Extension of the ACAS Pilot Period and Reopening of the Application Period

The October 2012 notice announced that the ACAS pilot would run for six months. The notice provided that if CBP determined that the pilot period should be extended, CBP would publish another notice in the Federal Register. The October 2012 notice also stated that applications for new ACAS pilot participants would be accepted until November 23, 2012. CBP subsequently published several notices extending the pilot period and/or reopening the application period to new participants for limited periods. On December 26, 2012, CBP published a notice in the Federal Register (77 FR 76064) reopening the application period for new participants until January 8, 2013. On January 3, 2013, the Federal Register published a correction (78 FR 315) stating that the correct date of the close of the reopened application period was January 10, 2013. On April 23, 2013, CBP published a notice in the Federal Register (78 FR 23946) extending the ACAS pilot period through October 26, 2013, and reopening the application period through May 23, 2013. Finally, on October 23, 2013, CBP published a notice in the Federal Register (78 FR 63237) extending the ACAS pilot period through July 26, 2014, and reopening the application period through December 23, 2013.

CBP would like to extend the pilot further to enable CBP to continue to strengthen its capability to target high-risk cargo earlier in the supply chain and provide greater opportunity for additional members of the air cargo community to participate and prepare for possible proposed regulatory changes. There are current participants that are in the process of testing and development that still need time to become fully operational participants and there continue to be members of the air cargo community who have informed CBP that they are interested in participating in the pilot.

For these reasons, CBP is extending the ACAS pilot period through July 26, 2015, and reopening the application period through September 26, 2014.

Anyone interested in participating in the ACAS pilot should refer to the notice published in the Federal Register on October 24, 2012, for additional application information and eligibility requirements.

Dated: July 23, 2014.
John P. Wagner,
Acting Assistant Commissioner, Office of Field Operations.

[FR Doc. 2014-17724 Filed 7-25-14; 8:45 am]

BILLING CODE 9111-14-P